DEPARTMENT OF ENERGY

Federal Energy Regulatory Commission

Combined Notice of Filings #1

Take notice that the Commission received the following electric corporate filings:

Docket Numbers: EC13-72-000.

Applicants: Alcoa Power Generating Inc.

Description: Application for Authorization under Section 203 of the Federal Power Act and Request for Waivers of Alcoa Power Generating Inc.

Filed Date: 2/7/13.

Accession Number: 20130207-5142.

Comments Due: 5 p.m. ET 2/28/13.

Docket Numbers: EC13-73-000.

Applicants: Twin Cities Power, LLC.

Description: Application for Authorization under Section 203 of Twin Cities Power, LLC.

Filed Date: 2/8/13.

Accession Number: 20130208-5080.

Comments Due: 5 p.m. ET 3/1/13.

Take notice that the Commission received the following electric rate filings:

Docket Numbers: ER13-301-002.

Applicants: Southwest Power Pool, Inc.

Description: Southwest Power Pool, Inc. submits tariff filing per 35.17(b): Errata Filing—Docket ER13-301-001—MKEC Formula Rate Revisions to be effective 1/1/2013.

Filed Date: 2/7/13.

Accession Number: 20130207-5115.

Comments Due: 5 p.m. ET 2/28/13.

Docket Numbers: ER13-323-001.

Applicants: ISO New England Inc.

Description: ISO New England Inc. submits tariff filing per 35: Correct Defined Term in Generator Audit Revisions to be effective 12/31/9998.

Filed Date: 2/8/13.

Accession Number: 20130208-5040.

Comments Due: 5 p.m. ET 3/1/13.

Docket Numbers: ER13-629-001.

Applicants: Public Service Company of Colorado.

Description: Public Service Company of Colorado submits tariff filing per 35.17(b): 2013_02_07_BNGR Amnd T-L Agrmt-542 to be effective 1/1/2013.

Filed Date: 2/8/13.

Accession Number: 20130208-5002.

Comments Due: 5 p.m. ET 3/1/13.

Docket Numbers: ER13-663-001.

Applicants: Public Service Company of Colorado.

Description: Public Service Company of Colorado submits tariff filing per 35.17(b): 2013_02_07_MDEU Amnd T-L Agrmt-541 to be effective 1/1/2013.

Filed Date: 2/8/13.

Accession Number: 20130208-5001.

Comments Due: 5 p.m. ET 3/1/13.

Docket Numbers: ER13-666-001.

Applicants: Public Service Company of Colorado.

Description: Public Service Company of Colorado submits tariff filing per 35.17(b): 2013_02_07_SPNR Amnd T-L Agrmt-548 to be effective 1/1/2013.

Filed Date: 2/8/13.

Accession Number: 20130208-5003.

Comments Due: 5 p.m. ET 3/1/13.

Docket Numbers: ER13-898-000.

Applicants: Pacific Gas and Electric Company.

Description: Pacific Gas and Electric Company submits tariff filing per 35.13(a)(2)(iii: Amendment to BART NITSA (Richmond Garage) to be effective 4/9/2013.

Filed Date: 2/7/13.

Accession Number: 20130207-5120.

Comments Due: 5 p.m. ET 2/28/13.

Docket Numbers: ER13-899-000.

Applicants: Abest Power & Gas, LLC.

Description: Abest Power & Gas, LLC submits tariff filing per 35.12: Application for Market-Based Rate Authority to be effective 3/8/2013.

Filed Date: 2/7/13.

Accession Number: 20130207-5121.

Comments Due: 5 p.m. ET 2/28/13.

Docket Numbers: ER13-901-000.

Applicants: Southern California Edison Company.

Description: Southern California Edison Company submits tariff filing per 35.15: Notices of Cancellation of SGIA & DSA Randolph Roof Top Solar Project with ASIT to be effective 10/22/2012.

Filed Date: 2/8/13.

Accession Number: 20130208-5000.

Comments Due: 5 p.m. ET 3/1/13.

Docket Numbers: ER13-902-000.

Applicants: Midwest Independent Transmission System Operator, Inc.

Description: Midwest Independent Transmission System Operator, Inc. submits tariff filing per 35.13(a)(2)(iii: 2013-02-08 Schedule 31 Annual Update to be effective 4/9/2013.

Date: 2/8/13.

Accession Number: 20130208-5016.

Comments Due: 5 p.m. ET 3/1/13.

Docket Numbers: ER13-903-000.

Applicants: Midwest Independent Transmission System Operator, Inc.

Description: Midwest Independent Transmission System Operator, Inc. submits tariff filing per 35.13(a)(2)(iii: 2013-02-08 UDS-SCADA Filing 40.2.14 to be effective 4/9/2013.

Filed Date: 2/8/13.

Accession Number: 20130208-5017.

Comments Due: 5 p.m. ET 3/1/13.

Docket Numbers: ER13-904-000.

Applicants: Wabash Valley Power Association, Inc.

Description: Wabash Valley Power Association, Inc. submits tariff filing per 35.13(a)(2)(iii: Amendments to Rate Schedules to be effective 4/9/2013.

Filed Date: 2/8/13.

Accession Number: 20130208-5031.

Comments Due: 5 p.m. ET 3/1/13.

Docket Numbers: ER13-905-000.

Applicants: Green Mountain Power Corporation, ISO New England Inc.

Description: Green Mountain Power Corporation submits tariff filing per 35.13(a)(2)(iii: Green Mtn. Power, ISO-NE and Woodsvie LSA to be effective 4/26/2011.

Filed Date: 2/8/13.

Accession Number: 20130208-5038.

Comments Due: 5 p.m. ET 3/1/13.

Docket Numbers: ER13-906-000.

Applicants: Southern California Edison Company.

Description: Southern California Edison Company submits tariff filing per 35.15: Notice of Cancellation to Mojave Solar Letter Agreement to be effective 12/10/2012.

Filed Date: 2/8/13.

Accession Number: 20130208-5041.

Comments Due: 5 p.m. ET 3/1/13.

Docket Numbers: ER13-907-000.

Applicants: Southern California Edison Company.

Description: Southern California Edison Company submits tariff filing per 35.13(a)(2)(iii: Letter Agreement Mojave Solar 4 Project to be effective 1/11/2013.

Filed Date: 2/8/13.

Accession Number: 20130208-5042.

Comments Due: 5 p.m. ET 3/1/13.

Docket Numbers: ER13-908-000.

Applicants: Alabama Power Company.

Description: Alabama Power Company submits tariff filing per 35: OATT Order No. 1000 Compliance Filing—FILING SUBMITTED UNDER PROTEST to be effective 12/31/9998.

Filed Date: 2/8/13.

Accession Number: 20130208-5087.

Comments Due: 5 p.m. ET 3/25/13.

Docket Numbers: ER13-909-000.

Applicants: New York Independent System Operator, Inc.

Description: New York Independent System Operator, Inc. submits tariff filing per 35.13(a)(2)(iii: NYISO tariff amendments to revise energy price calculations in scarcity periods to be effective 12/31/9998.

Filed Date: 2/8/13.

Accession Number: 20130208-5113.

Comments Due: 5 p.m. ET 3/1/13.

Docket Numbers: ER13-910-000.

Applicants: American Transmission Systems Incorporated, PJM Interconnection, L.L.C.

Description: American Transmission Systems, Incorporated submits tariff filing per 35.13(a)(2)(iii: CEI (ATSI) submits SA Nos. 3501 & 3502-IA & CA among CEI and WM Renewable Energy to be effective 1/9/2013.

Filed Date: 2/8/13.

Accession Number: 20130208-5117.

Comments Due: 5 p.m. ET 3/1/13.

Docket Numbers: ER13-911-000.

Applicants: Smoky Mountain Transmission LLC.

Description: Smoky Mountain Transmission LLC submits Request for Waiver of Order No. 1000 Transmission Planning Requirements.

Filed Date: 2/8/13.

Accession Number: 20130208-5121.

Comments Due: 5 p.m. ET 3/1/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 08, 2013.
Nathaniel J. Davis, Sr.,
Deputy Secretary.

[FR Doc. 2013-03646 Filed 2-15-13; 8:45 am]

BILLING CODE 6717-01-P